DEPARTMENT OF THE INTERIOR

National Park Service

National Register of Historic Places; Notification of Pending Nominations

Nominations for the following properties being considered for listing in the National Register were received by the National Park Service before January 26, 2002. Pursuant to section 60.13 of 36 CFR Part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW, Suite 400, Washington DC 20002; or by fax, 202-343-1836 . Written or faxed comments should be submitted by February 28, 2002.

Carol D. Shull,
Keeper of the National Register of Historic Places.

ARIZONA

Navajo County

Lower Cibecue Lutheran Mission, Fort Apache Indian Reservation, Lower Cibecue, White Mountain Apache, 02000126

MASSACHUSETTS

Essex County

Old Lynn High School, 50 High St., Lynn, 02000130

Norfolk County

Endicott Estate, 656 East St., Dedham, 02000128

Plymouth County

Island Grove Park National Register District, Park Ave., Abington, 02000127

Worcester County

Tuttle Square School, 41 South St., Auburn, 02000129

NEW JERSEY

Monmouth County

Lauriston, Addriess Restricted, Rumson, 02000134

Somerset County

Van Horne House, 941 E. Main St., Bridgewater Township, 02000133

NEW YORK

Albany County

Merchant, Walter, House, 188 Washington Ave., Albany, 02000137

Allegany County

Canaseraga Four Corners Historic District, 42-64 and 43-69 Main St., 9 S. Church St., Canaderaga, 02000145

Cortland County

First Presbyterian Church Complex, 23 Church St., Cortland, 02000142

Greene County

Bronk-Silvester House, 188 Mansion St., Coxsackie, 02000140

Jefferson County

Thomas Memorial AME Zion Church, 715 Morrison St., Watertown, 02000144

Orange County

Paramount Theatre, South St., Middletown, 02000136

Walden, Jacob T., Stone House, N. Montgomery St., Walden, 02000138

Otsego County

Otsdawa Baptist Church, Cty Rd. 8, Otsdawa, 02000143

Suffolk County

Wells, Joshua, House, 525 N. Suffolk Rd., Cutchogue, 02000139

Ulster County

Bevier Stone House, 2687 NY 209, Marbletown, 02000135

Westchester County

Yonkers Trolley Barn, 92 Main St., Yonkers, 02000141

NORTH CAROLINA

Greene County

Coward, Edward R. and Sallie Ann, House, NC 1405, 0.2 mi. E of jct. with NC 1400, Ormondsville, 02000131

NORTH DAKOTA

Ramsey County

Devils Lake Carnegie Library, (Philanthropically Established Libraries in North Dakota MPS), 623 4th Ave., Devils Lake, 02000132

TEXAS

Bowie County

Garland Community School Teacherage, TX 2, 2.5 mi. W of Dekalb, Dekalb, 02000146

WISCONSIN

Door County

Little Lake Archeological District, Address Restricted, Washington Island, 02000147

Fond Du Lac County

Dana, George and Mary Agnes, House, 136 Sheboygan St., Fond du Lac, 02000148

North Main Street Historic District, Roughly along Main St., from Merrill to Sheboygan, Fond du Lac, 02000149

[FR Doc. 02-3510 Filed 2-12-02; 8:45 am]

BILLING CODE 4310-70-P